DEPARTMENT OF THE TREASURY

Submission for OMB Review; Comment Request

July 16, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before August 23, 2010 to be assured of consideration.

Internal Revenue Service (IRS)

OMB Number: 1545-0041.

Type of Review: Revision of a currently approved collection.

Title: Corporation Dissolution or Liquidation.

Form: 966.

Abstract: Form 966 is filed by a corporation whose shareholders have agreed to liquidate the corporation. As a result of the liquidation, the shareholders receive the property of the corporation in exchange for their stock. The IRS uses Form 966 to determine if the liquidation election was properly made and if any taxes are due on the transfers of property.

Respondents: Private Sector: Businesses or other for-profits.

Estimated Total Burden Hours: 209,820 hours.

OMB Number: 1545-0181.

Type of Review: Extension without change of a currently approved collection.

Title: Application for Extension of Time to File a Return and/or Pay U.S. Estate (and Generation-Skipping Transfer) Taxes.

Form: 4768.

Abstract: Form 4768 is used by estates to request an extension of time to file an estate (and GST) tax return and/or to pay the estate (and GST) taxes and to explain why the extension should be granted. IRS uses the information to decide whether the extension should be granted.

Respondents: Individuals or Households.

Estimated Total Burden Hours: 30,710 hours.

OMB Number: 1545-0242.

Type of Review: Extension without change of a currently approved collection.

Title: Gas Guzzler Tax.

Form: 6197.

Abstract: Form 6197 is used to compute the gas guzzler tax on automobiles whose fuel economy does not meet certain standard for fuel economy. The tax is reported quarterly of Form 720. Form 6197 is filed each quarter with Form 720 for manufacturers. Individuals can make a one-time filing if they import a gas guzzler auto for personal use. The IRS uses the information to verify computation of the tax and compliance with the law.

Respondents: Private Sector: Businesses or other for-profits.

Estimated Total Burden Hours: 4,659 hours.

OMB Number: 1545-0704.

Type of Review: Revision of a currently approved collection.

Title: Information Return of U.S. Persons with Respect To Certain Foreign Corporations.

Form: 5471.

Abstract: Form 5471 and related schedules are used by U.S. persons that have an interest in a foreign corporation. The form is used to report income from the foreign corporation. The form and schedules are used to satisfy the reporting requirements of sections 6035, 6038 and 6046 and the regulations there under pertaining to the involvement of U.S. persons with certain foreign corporations.

Respondents: Private Sector: Businesses or other for-profits.

Estimated Total Burden Hours: 4,280,244 hours.

OMB Number: 1545-1564.

Type of Review: Extension without change of a currently approved collection.

Title: REG-103330-97 (Final) (T.D. 8839) IRS Adoption Taxpayer Identification Numbers.

Abstract: The regulations provide rules for obtaining IRS adoption taxpayer identification numbers (ATINs), which are used to identify children placed for adoption. To obtain an ATIN, a prospective adoptive parent must file Form W-7A. The regulations assist prospective adoptive parents in claiming tax benefits with respect to these children.

Respondents: Individuals or Households.

Estimated Total Burden Hours: 1 hour.

OMB Number: 1545-1595.

Type of Review: Extension without change of a currently approved collection.

Title: Revenue Procedure 98-25, Automatic Data Processing.

Abstract: Rev. Proc. 98-25 specifies the basic requirements that the IRS considers to be essential in cases where a taxpayers's records are maintained within an Automatic Data Processing System (ADP). If machine-sensible records are lost, stolen, destroyed, or materially inaccurate, the Rev. Proc. requires that a taxpayer promptly notify its District Director and submit a plan to replace the affected records. The District Director will notify the taxpayer of any objection(s) to the taxpayer's plan. Also, the Rev. Proc. provides that a taxpayer who maintains machine-sensible records may request to enter into a Record Retention. * * *

Respondents: Private Sector: Businesses or other for-profits.

Estimated Total Burden Hours: 120,000 hours.

OMB Number: 1545-1578.

Type of Review: Extension without change of a currently approved collection.

Title: REG-106542-98 (Final), Election to Treat Trust as Part of an Estate.

Abstract: REG-106542-98 and Rev. Proc. 98-13 relate to an election to have certain revocable trusts treated and taxed as part of an estate, and provides the procedures and requirements for making the section 645 election.

Respondents: Individuals or Households.

Estimated Total Burden Hours: 5,000 hours.

OMB Number: 1545-1736.

Type of Review: Extension without change of a currently approved collection.

Title: Revenue Procedure 2001-24, Advanced Insurance Commissions.

Abstract: A taxpayer that wants to obtain automatic consent to change its method of accounting for cash advances on commissions paid to its agents must agree to the specified terms and conditions under the revenue procedure. This agreement is ratified by attaching the required statement to the Federal income tax return for the year of change.

Respondents: Private Sector: Businesses or other for-profits.

Estimated Total Burden Hours: 1,318 hours.

OMB Number: 1545-1873.

Type of Review: Extension without change of a currently approved collection.

Title: Revenue Procedure 2004-15, Waivers of Minimum Funding Standards.

Abstract: This revenue procedure describes the process for obtaining a waiver from the minimum funding standards set forth in section 412 of the Code.

Respondents: Private Sector: Businesses or other for-profits.

Estimated Total Burden Hours: 4,730 hours.

OMB Number: 1545-1599.

Type of Review: Extension without change of a currently approved collection.

Title: REG-208299-90 (NPRM) Allocation and Sourcing of Income and Deductions Among Taxpayers Engaged in a Global Dealing Operation.

Abstract: The information requested in sections 1.475(g)-2(b), 1.482-8(b)(3), (c)(3), (e)(5), (e)(6), (d)(3), and 1.863-3(h) is necessary for Service to determine whether the taxpayer has entered into controlled transactions at an arm's length price.

Respondents: Private Sector: Businesses or other for-profits.

Estimated Total Burden Hours: 20,000 hours.

OMB Number: 1545-2045.

Type of Review: Extension without change of a currently approved collection.

Title: (Announcement 2006-95) Settlement Initiative for Employees of Foreign Embassies, Foreign Consular Offices and International Organizations in the United States.

Abstract: The IRS has determined a substantial number of U.S. citizens and lawful permanent residents working in the international community have failed to fulfill their U.S. tax obligations. The IRS needs the information in order to apply the terms of the settlement and determine the amount of taxes, applicable statutory interest and penalties. The respondents are individuals employed by foreign embassies, foreign consular offices or international organizations in the United States.

Respondents: Individuals or Households.

Estimated Total Burden Hours: 11,000 hours.

OMB Number: 1545-1625.

Type of Review: Extension without change of a currently approved collection.

Title: REG-105170-97 and REG-112991-01, (Final) Credit for Increasing Research Activities (TD 8930 & TD 9104).

Abstract: These final regulations relate to the computation of the credit under section 41(c) and the definition of qualified research under section 41(d). These regulations are intended to provide (1) guidance concerning the requirements necessary to qualify for the credit for increasing research activities, (2) guidance in computing the credit for increasing research activities, and (3) rules for electing and revoking the election of the alternative incremental credit.

Respondents: Private Sector: Businesses or other for-profits.

Estimated Total Burden Hours: 250 hours.

OMB Number: 1545-1669.

Type of Review: Extension without change of a currently approved collection.

Title: REG-108639-99 (Final) Retirement Plans; Cash or Deferred Arrangements Under Section 401(k) and Matching Contributions or Employee Contributions Under Section 401(m); Notice 2000-3.

Abstract: The regulations provide guidance for qualified retirement plans containing cash or deferred arrangements under section 401(k) and providing matching contributions or employee contributions under section 401(m). The IRS needs this information to insure compliance with sections 401(k) and 401(m).

Respondents: Private Sector: Businesses or other for-profits.

Estimated Total Burden Hours: 26,500 hours.

OMB Number: 1545-1588.

Type of Review: Extension without change of a currently approved collection.

Title: REG-209682-94 (TD 8847—Final) Adjustments Following Sales of Partnership Interests.

Abstract: Partnerships, with a section 754 election in effect, are required to adjust the basis of partnership property following certain transfers of partnership interests. The regulations require the partnership to attach a statement to its partnership return indicating the adjustment and how it was allocated among the partnership property.

Respondents: Private Sector: Businesses or other for-profits.

Estimated Total Burden Hours: 904,000 hours.

OMB Number: 1545-1869.

Type of Review: Extension without change of a currently approved collection.

Title: Information Return for Acquisition of Control or Substantial Change in Capital Structure.

Form: 8806.

Abstract: Form 8806 is used to report information regarding transactions involving acquisition of control or substantial change in capital structure under section 6043.

Respondents: Private Sector: Businesses or other for-profits.

Estimated Total Burden Hours: 113 hours.

OMB Number: 1545-2047.

Type of Review: Extension without change of a currently approved collection.

Title: Rev Proc 2007-21—Revenue Procedure Regarding 6707/6707A Rescission Request Procedures.

Abstract: This revenue procedure provides guidance to persons who are assessed a penalty under section 6707A or 6707 of the Internal Revenue Code, and who may request rescission of those penalties from the Commissioner.

Respondents: Individuals or Households.

Estimated Total Burden Hours: 430 hours.

OMB Number: 1545-1729.

Type of Review: Extension without change of a currently approved collection.

Title: TD 9114 (Final) Electronic Payee Statements.

Abstract: In general, under these regulations, a person required to furnish a statement on Form W-2 under Code sections 6041(d) or 6051, or Forms 1098-T or 1098-E under Code section 6050S, may furnish these statements electronically if the recipient consents to receive them electronically, and if the person furnishing the statement (1) makes certain disclosures to the recipient, (2) annually notifies the recipient that the statement is available on a Web site, and (3) provides access to the statement on that Web site for a prescribed period of time.

Respondents: Private Sector: Businesses or other for-profits.

Estimated Total Burden Hours: 2,844,950 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Celina Elphage,
Treasury PRA Clearance Officer.

[FR Doc. 2010-17918 Filed 7-21-10; 8:45 am]

BILLING CODE 4830-01-P